DEPARTMENT OF HOMELAND SECURITY

Coast Guard

33 CFR Part 117

[Docket No. USCG-2010-0522]

Drawbridge Operation Regulations; Milwaukee, Menomonee, and Kinnickinnic Rivers and South Menomonee and Burnham Canals, Milwaukee, WI

AGENCY: Coast Guard, DHS.

ACTION: Notice of temporary deviation from regulations.

SUMMARY: Commander, Ninth Coast Guard District, issued a temporary deviation from the regulation governing the operation of the Broadway Street Bridge at Mile 0.79, Water Street Bridge at Mile 0.94, Saint Paul Avenue Bridge at Mile 1.21, the Clybourn Street Bridge at Mile 1.28, Michigan Street Bridge at Mile 1.37, and the Wisconsin Avenue Bridge at Mile 1.46 over the Milwaukee River at Milwaukee, WI, during the scheduled Festa Italiana, and the Summerfest public events for the 2010 season.

DATES: This deviation is effective from 9:30 p.m. to 1 a.m. on June 24, 2010 and July 3, 2010. A rain date of June 25 and July 4, 2010 are authorized. June 25, 2010 through July 2, 2010 from 11 p.m. to 1 a.m. daily, and July 15, 2010 to July 18 from 10 p.m. to midnight daily.

ADDRESSES: Documents mentioned in this preamble as being available in the docket are part of docket USCG-2010-0522 and are available online by going to http://www.regulations.gov, inserting USCG-2010-0522 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Lee D. Soule, Bridge Management Specialist, Ninth Coast Guard District; telephone 216-902-6085, e-mail lee.d.soule@uscg.mil. If you have questions on viewing the docket, call Renee V. Wright, Program Manager, Docket Operations, telephone 202-366-9826.

SUPPLEMENTARY INFORMATION: The City of Milwaukee, WI, which owns and operates these drawbridges, has requested a temporary deviation from the current operating regulations set forth in 33 CFR 117.1093. The purpose of this request is to facilitate efficient management of all transportation needs and provide timely public safety services during these special events. The most updated and detailed current marine information for this event, and all bridge operations, is found in the Local Notice to Mariners and Broadcast Notice to Mariners issued by the Ninth District Commander. On June 24, 2010 and including the rain date of June 25, 2010 the bridges need not open for any vessel from 9:30 p.m. to 1 a.m. except at the discretion of the Milwaukee Police Department. From June 25 through July 2, 2010 the bridges need not open for recreational vessels from 11 p.m. to 1 a.m. except at the discretion of the Milwaukee Police Department. From July 15, 2010 through July 18, 2010 the bridges need not open for recreational vessels between the hours of 10 p.m. and midnight for recreational vessels. In accordance with 33 CFR 117.35(e), the drawbridge must return to its regular operating schedule immediately at the end of the designated time periods. These deviations from the operating regulations are authorized under 33 CFR 117.35.

Dated: June 11, 2010.
M.N. Parks,
Rear Admiral, U.S. Coast Guard, Commander, Ninth Coast Guard District.

[FR Doc. 2010-15704 Filed 6-28-10; 8:45 am]

BILLING CODE 9110-04-P